ENVIRONMENTAL PROTECTION AGENCY

[OW-2003-0018; FRL-7947-6]

Agency Information Collection Activities; Continuing Collection; Submission to OMB for Review and Approval; Comment Request; Water Quality Standards Regulation (Renewal), EPA ICR Number 0988.09, OMB Control Number 2040-0049

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection for the Water Quality Standards Regulation. This ICR is scheduled to expire on August 31, 2005. Under OMB regulations, the Agency may continue to conduct or sponsor the collection of information while this submission is pending at OMB. This ICR describes the nature of the information collection and its estimated burden.

DATES: Additional comments may be submitted on or before September 2, 2005.

ADDRESSES: Submit your comments, referencing docket ID number OW-2003-0018, to (1) EPA online using EDOCKET (our preferred method), by email to ow-docket@epa.gov, or by mail to: EPA Docket Center, Environmental Protection Agency, Water Docket (4301T), 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Fred Leutner, Standards and Health Protection Division, Office of Science and Technology, Mail Code 4305T, Environmental Protection Agency, 1200 Pennsylvania Ave., NW., Washington, DC 20460; telephone number: (202) 566-0400; fax number: (202) 566-0409; email address: leutner.fred@epa.gov.

SUPPLEMENTARY INFORMATION: EPA has submitted the following ICR to OMB for review and approval according to the procedures prescribed in 5 CFR 1320.12. On March 22, 2005 (70 FR 14462), EPA sought comments on this ICR pursuant to 5 CFR 1320.8(d). EPA received no comments.

EPA has established a public docket for this ICR under Docket ID No. OW-2003-0018, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Water Quality Standards Regulation (Renewal).

Abstract: Section 303(c) of the Clean Water Act requires States and authorized Tribes to establish water quality standards, and to review and, if appropriate, revise their water quality standards once every three years. The Act also requires EPA to review and either approve or disapprove the new or revised standards, and to promulgate replacement Federal standards if necessary. Section 118(c)(2) of the Act specifies additional water quality standards requirements for waters of the Great Lakes system.

The Water Quality Standards Regulation governs national implementation of the water quality standards program. The Regulation consists of 40 CFR part 131, and portions of part 132 related to water quality standards, including 40 CFR 132.3, Appendix A, Appendix E, and Procedures 1 and 2 of Appendix F. The Regulation describes requirements and procedures for States and authorized Tribes to develop, review, and revise their water quality standards, and EPA procedures for reviewing and approving the water quality standards. The regulation requires the development and submission of information to EPA, including:

—Results of each jurisdiction's triennial review of its water quality standards (40 CFR 131.6 and 131.20), including any new or revised water quality standards that are adopted, and required supporting information. Water quality standards include use designations for specific water bodies; water quality criteria sufficient to protect the designated uses; and an antidegradation policy. The regulation requires that certain information be made available for public review as well.

—Information that an Indian Tribe must submit to EPA in order to determine whether a Tribe is qualified to administer the water quality standards program (40 CFR 131.8).

—Information a State or Tribe must submit if it chooses to exercise a dispute resolution mechanism for disputes between States and Tribes over water quality standards on common water bodies (40 CFR 131.7).

—Information required by 40 CFR part 132 from dischargers to waters of the Great Lakes system, including bioassay tests initiated by dischargers to support development of water quality criteria; studies and demonstrations required by the antidegradation policy for the Great Lakes System; and analyses to request variances from water quality standards. The Guidance includes additional information collections that are addressed in separate Information Collection Requests for the National Pollutant Discharge Elimination System program.

An agency may not conduct or sponsor, and a person is not required to respond to, a collection of information unless it displays a currently valid OMB control number. The OMB control numbers for EPA's regulations are listed in 40 CFR part 9 and 48 CFR chapter 15.

Burden Statement: The annual public reporting and recordkeeping burden for this collection of information is estimated to average 988 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and certain Tribal governments, and water dischargers subject to certain requirements related to water quality standards in the Great Lakes system.

Estimated Number of Respondents: 2,796 (56 States and Territories, 30 Tribes, 516 major industrial and POTW dischargers, and 2,194 minor dischargers).

Frequency of Response: At least once every three years for water quality standards reviews and submissions. Once per occasion for Tribal applications to administer water quality standards; dispute resolution requests; and Great Lakes bioassay testing, variance requests, and antidegradation demonstrations.

Estimated Total Annual Hour Burden: 260,714.

Estimated Total Annual Cost: $12,063,453 , including $0 for Capital Expense, $0 for O&M, and $12,063,453 for Respondent Labor costs.

Changes in the Estimates: There is an increase of 21,938 hours over the total estimated burden currently identified in the OMB Inventory of Approved ICR Burdens. This increase is due to adjustments in the number of tribes receiving approval to administer water programs, even though there was a small reduction in some of the Great Lakes activities.

Dated: July 25, 2005.
Oscar Morales,
Director, Collection Strategies Division.

[FR Doc. 05-15327 Filed 8-2-05; 8:45 am]

BILLING CODE 6560-50-P